DEPARTMENT OF HOUSING AND URBAN DEVELOPMENT

[Docket No. FR-5696-C-17]

Additional Clarifying Guidance, Waivers, and Alternative Requirements for Grantees in Receipt of Community Development Block Grant Disaster Recovery Funds Under the Disaster Relief Appropriations Act, 2013: Correction

AGENCY: Office of the General Counsel, HUD.

ACTION: Notice; correction.

SUMMARY: On August 25, 2015, HUD published a notice in the Federal Register that provides clarifying guidance, waivers, and alternative requirements for Community Development Block Grant Disaster Recovery grantees in receipt of funds under the Disaster Relief Appropriations Act, 2013 (the Appropriations Act). The published document lists an incorrect Catalog of Federal Domestic Assistance number. This document corrects the number.

FOR FURTHER INFORMATION CONTACT: Stanley Gimont, Director, Office of Block Grant Assistance, Department of Housing and Urban Development, 451 7th Street SW., Room 7286, Washington, DC 20410, telephone number 202-708-3587. Persons with hearing or speech impairments may access this number via TTY by calling the Federal Relay Service at 800-877-8339. Facsimile inquiries may be sent to Mr. Gimont at 202-401-2044. (Except for the “800” number, these telephone numbers are not toll-free.) Email inquiries may be sent to disaster_recovery@hud.gov.

Correction

In the Federal Register of August 25, 2015, in FR Doc. 2015-21065, on page 51592, in the third column, correct section III entitled Catalog of Federal Domestic Assistance, to read as follows:

III. The Catalog of Federal Domestic Assistance

The Catalog of Federal Domestic Assistance number for the disaster recovery grants under this notice is 14.269.

Date: August 27, 2015.
Aaron Santa Anna,
Assistant General Counsel for Regulations.

[FR Doc. 2015-21651 Filed 8-31-15; 8:45 am]

BILLING CODE 4210-67-P